DEPARTMENT OF THE INTERIOR

Fish and Wildlife Service

[FWS-R3-R-2008-N00167; 30136-1265-0000-S3]

Patoka River National Wildlife Refuge, Pike and Gibson Counties, Indiana

AGENCY: Fish and Wildlife Service, Interior.

ACTION: Notice of availability: Final Comprehensive Conservation Plan and Finding of No Significant Impact for Environmental Assessment.

SUMMARY: We, the U.S. Fish and Wildlife Service (Service), announce that the Final Comprehensive Conservation Plan (CCP) and Finding of No Significant Impact (FONSI) for the Environmental Assessment (EA) are available for Patoka River National Wildlife Refuge. Goals and objectives in the CCP describe how the agency intends to manage the refuge over the next 15 years.

ADDRESSES: Copies of the Final CCP and FONSI/EA may be viewed at the Patoka River National Wildlife Refuge Headquarters and public libraries near the refuge. You may access and download a copy via the Planning Web site at http://www.fws.gov/midwest/Planning/PatokaRiver, or you may obtain a copy on compact disk by contacting: U.S. Fish and Wildlife Service, Division of Conservation Planning, Bishop Henry Whipple Federal Building, 1 Federal Drive, Fort Snelling, MN 55111 (1-800-247-1247, extension 5429) or Patoka River National Wildlife Refuge, 510 1/2 West Morton St., Oakland City, IN 47660 (812-749-3199). A limited number of hardcopies will be available for distribution at the Refuge Headquarters.

FOR FURTHER INFORMATION CONTACT: Bill McCoy (812-749-3199).

SUPPLEMENTARY INFORMATION: Established in 1994, Patoka River National Wildlife Refuge lies within a 20 mile section of the Patoka River in Gibson and Pike Counties of southwest Indiana. The Refuge currently manages about 6,000 acres. Ultimately, the Refuge will include up to 6,800 acres with another 15,283 acres to be included in a Refuge administered wildlife management area. The Refuge encompasses one of the last remaining stretches of bottomland forest in Indiana. It provides some of the best wood duck production habitat in the state and is inhabited by at least forty-one species of mammals and over 200 species of birds. The Refuge provides visitor services that include hunting, fishing, wildlife observation and environmental education.

The Draft CCP/EA was released for public review October 17, 2007, the comment period lasted 45 days ending November 30, 2007. During the comment period the Refuge hosted a public meeting attended by a total of 10 people. By the conclusion of the comment period we received 18 responses and identified more than 70 individual comments. In response to these comments we made a number of minor edits and added one objective statement and two strategies.

Selected Alternative

After considering the comments received, we have selected Alternative 3 for implementation. The selected alternative will increase opportunities for wildlife dependent recreation, increase the amount of bottomland forest, maintain stopover habitat for migratory waterbirds, provide habitat for the federally endangered Interior Least Tern, increase the amount of acres under moist soil management, and consider stream channel restoration options for the Patoka River and its tributaries.

Background

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: July 22, 2008.
Charles M. Wooley,
Acting Regional Director, U.S. Fish and Wildlife Service, Fort Snelling, Minnesota.

[FR Doc. E8-24815 Filed 10-16-08; 8:45 am]

BILLING CODE 4310-55-P